DEPARTMENT OF COMMERCE

National Oceanic and Atmospheric Administration

Proposed Information Collection; Comment Request; Sawfish Encounter Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 31, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Shelley Norton, (727) 824-5312 or shelley.norton@noaa.gov.

SUPPLEMENTARY INFORMATION:

I. Abstract

The National Marine Fisheries Service (NMFS) is seeking information from permitted commercial reef, reef charter, charter coastal pelagic, shark, and shrimp fishers on the location of historic and current encounters with sawfish within the Gulf of Mexico and the Atlantic Ocean. The NMFS plans to conduct a survey to collect data that will be used to develop recovery actions for the federally endangered U.S. distinct population segment (DPS) of smalltooth sawfish. The National Marine Fisheries Service works to conserve and recovery listed species protected under the Endangered Species Act (ESA).

II. Method of Collection

The data will be collected through a mail survey. Permitted Commercial Gulf of Mexico Reef Fish, Gulf of Mexico Charter/Head boat for Reef Fish, Commercial Shark Directed and Incidental, Coastal Migratory Pelagic, South Atlantic Rock Shrimp Endorsement And Permit, and Gulf of Mexico Shrimp fishers will receive the survey.

III. Data

OMB Number: None.

Form Number: None.

Type of Review: Regular submission.

Affected Public: Not-for-profit institutions; and business or other for-profit organizations.

Estimated Number of Respondents: 5,153.

Estimated Time Per Response: 30 minutes.

Estimated Total Annual Burden Hours: 2,577.

Estimated Total Annual Cost to Public: $1,907.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 25, 2005.
Gwellnar Banks,
Management Analyst, Office of the Chief Information Officer.

[FR Doc. 05-17289 Filed 8-30-05; 8:45 am]

BILLING CODE 3510-22-P